DEPARTMENT OF THE INTERIOR

Bureau of Land Management

[NM-930-1430-ET; NMNM 56994, NMNM 56995, NMNM 56996, NMNM 56997, NMNM 56998, NMNM 56999, and NMNM 57000]

Public Land Order No. 7646; Revocation of Coal Classification Withdrawals; NM

AGENCY: Bureau of Land Management, Interior.

ACTION: Public land order.

SUMMARY: This order revokes 7 Executive Orders in their entireties as to approximately 512,380 acres withdrawn for coal classification purposes. This order opens the lands to surface entry and nonmetalliferous mining.

EFFECTIVE DATE: October 31, 2005.

FOR FURTHER INFORMATION CONTACT: Gilda Fitzpatrick, BLM New Mexico State Office, 1474 Rodeo Road, Santa Fe, New Mexico 87502, (505) 438-7597.

SUPPLEMENTARY INFORMATION: The lands were originally withdrawn to protect the potential coal resources from mining claims, but since coal is now a leaseable mineral the withdrawals are no longer needed. Copies of the original withdrawal orders containing legal descriptions of the lands involved are available from the BLM New Mexico State Office at the address listed above.

Order

By virtue of the authority vested in the Secretary of the Interior by Section 204 of the Federal Land Policy and Management Act of 1976, 43 U.S.C. 1714 (2000), it is ordered as follows:

1. The Executive Orders dated December 23, 1910, February 6, 1911, April 22, 1911, May 18, 1911, August 25, 1915, October 14, 1915, and July 30, 1917, which withdrew lands for coal classification purposes, are hereby revoked in their entireties.

2. At 10 a.m. on October 31, 2005, the lands referenced in Paragraph 1 will be opened to the operation of the public land laws generally, subject to valid existing rights, the provisions of existing withdrawals, other segregations of record, and the requirements of applicable law. All valid applications received at or prior to 10 a.m. on October 31, 2005, shall be considered as simultaneously filed at that time. Those received thereafter shall be considered in the order of filing.

3. At 10 a.m. on October 31, 2005 the lands referenced in Paragraph 1 will be opened to nonmetalliferous mineral location and entry under the United States mining laws, subject to valid existing rights, the provisions of existing withdrawals, other segregations of record, and the requirements of applicable law. Appropriation of any of the lands under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: September 13, 2005.
Rebecca W. Watson,
Assistant Secretary—Land and Minerals Management.

[FR Doc. 05-19646 Filed 9-29-05; 8:45 am]

BILLING CODE 4310-FB-P